DEPARTMENT OF TRANSPORTATION

Federal Aviation Administration

14 CFR Part 71

[Docket No. FAA-2011-0490; Airspace Docket No. 11-AWP-5]

Amendment of Class E Airspace; Tonopah, NV

AGENCY: Federal Aviation Administration (FAA), DOT.

ACTION: Final rule.

SUMMARY: This action modifies Class E airspace at Tonopah, NV, to accommodate aircraft using new Area Navigation (RNAV) Global Positioning System (GPS) standard instrument approach procedures at Tonopah Airport, NV. This action also makes a minor adjustment to the geographic coordinates of the airport, and corrects geographic coordinates in the regulatory text. This rule improves the safety and management of Instrument Flight Rules (IFR) operations at the airport.

DATES: Effective date, 0901 UTC, December 15, 2011. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On July 8, 2011, the FAA published in the Federal Register a notice of proposed rulemaking to amend controlled airspace at Tonopah, NV (76 FR 40295). Interested parties were invited to participate in this rulemaking effort by submitting written comments on the proposal to the FAA. No comments were received. Subsequent to publication, the FAAs Aeronautical Products office made further adjustments to the geographic coordinates listed in the regulatory text, and these are included in this rulemaking.

Class E airspace designations are published in paragraph 6002 and 6005, respectively, of FAA Order 7400.9V dated August 9, 2011, and effective September 15, 2011, which is incorporated by reference in 14 CFR 71.1. The Class E airspace designations listed in this document will be published subsequently in that Order.

The Rule

This action amends Title 14 Code of Federal Regulations (14 CFR) Part 71 by modifying Class E surface airspace, and Class E airspace extending upward from 700 feet above the surface, at Tonopah Airport, Tonopah, NV, to accommodate IFR aircraft executing new RNAV (GPS) standard instrument approach procedures at the airport. Also, the geographic coordinates of the airport are updated to coincide with the FAA's aeronautical database. Additionally, the latitude and longitude coordinates in the text of Class E airspace listed under paragraph 6005 are adjusted to be in concert with the FAA's aeronautical database. This action is necessary for the safety and management of IFR operations. With the exception of editorial changes and the changes noted above, this rule is the same as that proposed in the notice of proposed rulemaking July 8, 2011.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it creates additional controlled airspace at Tonopah Airport, Tonopah, NV.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011 is amended as follows:

Paragraph 6002 Class E airspace designated as surface areas.

* * * * *

AWP NV E2 Tonopah, NV [Modified]

Tonopah Airport, NV

(Lat. 38°03′37″ N., long. 117°05′13″ W.)

Within a 8.2-mile radius of the Tonopah Airport and within 2 miles each side of the 358° bearing from the Tonopah Airport extending from the 8.2-mile radius to 10.5 miles north of the Tonopah Airport, and within 2 miles each side of the Tonopah Airport 117° bearing extending from the 8.2-mile radius to 11.5 miles southeast of the Tonopah Airport. This Class E airspace area is effective during the specific dates and times established in advance by a Notice to Airmen. The effective date and time will thereafter be continuously published in the Airport/Facility Directory.

Paragraph 6005 Class E airspace areas extending upward from 700 feet or more above the surface of the earth.

* * * * *

AWP NV E5 Tonopah, NV [Modified]

Tonopah Airport, NV

(Lat. 38°03′37″ N., long. 117°05′13″ W.)

That airspace extending upward from 700 feet above the surface within a 10.7-mile radius of the Tonopah Airport, and that airspace northwest of the Tonopah Airport bounded by a line beginning at lat. 38°10′16″ N., long. 117°15′50″ W.; to lat. 38°12′00″ N., long. 117°17′00″ W.; to lat. 38°18′00″ N., long. 117°17′00″ W.; to lat. 38°18′00″ N., long. 117°03′00″ W.; to lat. 38°14′13″ N., long. 117°03′13″ W.; thence clockwise via the 10.7-mile radius of the Tonopah Airport to lat. 38°00′36″ N., long. 116°52′13″ W.; to lat. 38°00′09″ N., long. 116°51′06″ W.; to lat. 37°56′35″ N., long. 116°53′24″ W.; to lat. 37°57′02″ N., long. 116°54′31″ W.; thence clockwise via the 10.7-mile radius of the Tonopah Airport to the point of beginning. That airspace extending upward from 1,200 feet above the surface within the area bounded by a line beginning at lat. 37°52′46″ N., long. 117°05′41″ W.; to lat. 37°39′00″ N., long. 117°22′00″ W.; to lat. 37°35′00″ N., long. 117°36′00″ W.; to lat. 37°56′00″ N., long. 117°54′00″ W.; to lat. 37°56′50″ N., long. 117°32′00″ W.; to lat. 38°08′00″ N., long. 117°41′00″ W.; to lat. 38°18′00″ N., long. 117°24′00″ W.; to lat. 38°18′00″ N., long. 117°00′00″ W.; to lat. 38°14′00″ N., long. 117°00′00″ W.; to lat. 38°17′00″ N., long. 116°36′00″ W.; to lat. 38°00′00″ N., long. 116°33′00″ W.; to lat. 37°59′30″ N., long. 116°38′30″ W.; to lat. 37°53′00″ N., long. 116°38′30″ W.; thence to the point of beginning.

Issued in Seattle, Washington, on September 1, 2011.
Robert Henry,
Acting Manager, Operations Support Group, Western Service Center.

[FR Doc. 2011-23297 Filed 9-14-11; 8:45 am]

BILLING CODE 4910-13-P